DEPARTMENT OF HEALTH AND HUMAN SERVICES

Administration for Children and Families

Statement of Organization, Functions, and Delegations of Authority

Notice is hereby given that I have delegated to the Regional Program Managers, American Indian Alaska Native Program Branch Chief, and Migrant and Seasonal Program Branch Chief the following authority vested in me by the Director, Office of Head Start in the memorandum dated August 27, 2009.

(a) Authority Delegated:

Authority to approve or disapprove requests for non-Federal share waivers under 42 U.S.C. 9835(b) for expenditures funded by the American Recovery & Reinvestment Act of 2009, Public Law 111-5 (Feb. 17, 2009).

(b) Limitations:

1. This delegation shall be exercised under financial and administrative requirements applicable to all Administration for Children and Families authorities.

2. These authorities may not be redelegated.

(c) Effective Date:

This redelegation is effective on the date of signature.

(d) Effect on Existing Delegations:

This redelegation of authority supplements the previous delegations from the Director, Division of Program Operations by the memorandum dated April 26, 2007.

I hereby affirm and ratify any actions taken by any Regional Program Manager, the American Indian Alaska Native Program Branch Chief or the Migrant and Seasonal Program Branch Chief that involved the exercise of this authority prior to the effective date of this redelegation.

Dated: August 28, 2009.
Renee Perthuis,
Director, Division of Program Operations.

[FR Doc. E9-22572 Filed 9-17-09; 8:45 am]

BILLING CODE 4184-01-P